DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons who have been removed from the list of Specially Designated Nationals and Blocked Persons (SDN List). Their property and interests in property are no longer blocked, and U.S. persons are no longer generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List (SDN List) and additional information concerning OFAC sanctions programs are available on OFAC's website (https://www.treasury.gov/ofac).

Notice of OFAC Actions

OFAC previously determined on December 14, 2018 that the individual and entities listed below met one or more of the criteria under Executive Order 13664 of April 3, 2014, “Blocking Property of Certain Persons with Respect to South Sudan,” 79 FR 19283, 3 CFR, 2014 Comp., p. 238 (E.O. 13664).

On February 26, 2020, the Director of OFAC determined that circumstances no longer warrant the inclusion of the following individual and entities on the SDN List under this authority. This entity is no longer subject to the blocking provisions of Section 1(a) of E.O. 13664.

Individual

1. ZIV, Israel (a.k.a. ZILBERSTEIN, Israel Baruch; a.k.a. ZIV, Israel Baruch; a.k.a. ZIV, Yisrael), Haela 16, Har Hadar, Israel; Haela 40, Har Adar, Israel; DOB 06 Jul 1957; nationality Israel; Gender Male; Passport 29037166 (Israel); National ID No. 5490537 (individual) [SOUTH SUDAN].

Entities

1. GLOBAL IZ GROUP LTD (a.k.a. ZIV HG LTD), 7 Metzada, Bnei Brak 5126112, Israel; Business Registration Number 514033703 (Israel) [SOUTH SUDAN] (Linked To: ZIV, Israel).

2. GLOBAL LAW ENFORCEMENT AND SECURITY LTD (a.k.a. “GLS”), 2 Granit, Petah Tikva 4951446, Israel; Business Registration Number 514151331 (Israel) [SOUTH SUDAN] (Linked To: GLOBAL N.T.M LTD).

3. GLOBAL N.T.M LTD (a.k.a. CST GLOBAL; a.k.a. GLOBAL CST; a.k.a. “GLOBAL GROUP”; a.k.a. “GREEN HORIZON”), 11 Granit Street, P.O. Box 3111, Petach-Tikva 49514, Israel; 2 Granit, Petah Tikva 4951446, Israel; Business Registration Number 513884569 (Israel) [SOUTH SUDAN] (Linked To: ZIV, Israel).

Dated: February 26, 2020.
Andrea M. Gacki,
Director, Office of Foreign Assets Control.

[FR Doc. 2020-04402 Filed 3-5-20; 8:45 am]

BILLING CODE 4810-AL-P